DEPARTMENT OF JUSTICE

Office of Justice Programs

Agency Information Collection Activities: Proposed Collection; Comments Requested

ACTION: 60-Day notice of information collection under review: New Collection OJJDP National Training and Technical Assistance Center (NTTAC) user feedback form.

The Department of Justice (DOJ), Office of Justice Programs, has submitted the following information collection request to the Office of Management and Budget (OMB) for review and approval in accordance with the Paperwork Reduction Act of 1995. The proposed information collection is published to obtain comments from the public and affected agencies. Comments are encouraged and will be accepted for “sixty days” until October 21, 2002. This process is conducted in accordance with 5 CFR 1320.10.

If you have comments especially on the estimated public burden or associated response time, suggestions, or need a copy of the proposed information collection instrument with instructions or additional information, please contact Marilyn Landon, (202) 616-3648 Office of Justice Programs, US Department of Justice, 810 Seventh Street NW., Washington, DC 20531.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New collection.

(2) Title of the Form/Collection: NTTAC User Feedback Form.

(3) Agency form number, if any, and the applicable component of the Department of Justice sponsoring the collection: Form Number: None. Office of Justice Programs, US Department of Justice.

(4) Affected public who will be asked or required to respond, as well as a brief abstract: Primary: State, Local or Tribal Government; Individuals or households; Not-for-profit institutions; Businesses or other for-profit. The NTTAC User Feedback Form is designed to collect the data necessary to continuously improve customer service intended to meet the needs of the juvenile justice field at-large and the OJJDP-funded TA provider network. Within 15 days of satisfying a request for technical assistance (TA), NTTAC staff will send this Form to TA requester to capture important feedback on the TA requester's satisfaction with the quality, efficiency, referrals, and resources of the NTTAC.

(5) An estimate of the total number of respondents and the amount of time estimated for an average respondent to respond: There will be an estimated 290 responses, one for each respondent. The estimated amount of time required for the average respondent to respond is 8 minutes.

(6) An estimate of the total public burden (in hours) associated with the collection: There are an estimated 2,320 burden hours annually associated with this information collection.

If additional information is required contact: Brenda E. Dyer, Department Deputy Clearance Officer, Information Management and Security Staff, Justice Management Division, Department of Justice, Patrick Henry Building, Suite 1600, 601 D Street NW., Washington, DC 20530.

Dated: August 14, 2002.
Brenda E. Dyer,
Department Deputy Clearance Officer, Department of Justice.

[FR Doc. 02-21109 Filed 8-19-02; 8:45 am]

BILLING CODE 4410-18-M